SMALL BUSINESS ADMINISTRATION

[Disaster Declaration #15326 and #15327; CALIFORNIA Disaster Number CA-00277]

Administrative Declaration Amendment of Disaster for the State of California

AGENCY: U.S. Small Business Administration.

ACTION: Amendment 1.

SUMMARY: This is an amendment of the Administrative declaration of a disaster for the State of CALIFORNIA dated 09/26/2017.

Incident: Helena Fire.

Incident Period: 08/30/2017 through 10/01/2017.

DATES: Issued on 10/10/2017.

Physical Loan Application Deadline Date: 11/27/2017.

Economic Injury (EIDL) Loan Application Deadline Date: 06/26/2018.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416, (202) 205-6734.

SUPPLEMENTARY INFORMATION: The notice of an Administrative declaration for the State of CALIFORNIA, dated 09/26/2017, is hereby amended to establish the incident closing date as 10/01/2017.

All other information in the original declaration remains unchanged.

(Catalog of Federal Domestic Assistance Number 59008)

Dated: October 10, 2017.
Linda E. McMahon,
Administrator.

[FR Doc. 2017-22876 Filed 10-20-17; 8:45 am]

BILLING CODE 8025-01-P